DEPARTMENT OF TRANSPORTATION

Federal Highway Administration

Environmental Impact Statement: Hillsborough and Rockingham Counties, New Hampshire; Correction

AGENCY: Federal Highway Administration (FHWA), DOT.

ACTION: Notice; correction.

SUMMARY: The Federal Highway Administration published a document in the Federal Register of October 27, 2000, concerning Notice of Intent concerning Environmental Impact Statement: Hillsborough and Rockingham Counties, New Hampshire. The document contained incorrect proposed location of the scoping meeting.

FOR FURTHER INFORMATION CONTACT: William F. O'Donnell, 603-228-3057, Extension 145.

Correction

In the Federal Register of October 27, 2000, in FR Doc. 00-27669, on page 64474, in the third column, correct the meeting time and location to read “Because this project has been on hold for a substantial period of time, a second formal scoping meeting will be held at 4:00 p.m. on December 6, 2000, the 3rd floor Auditorium of the University of NH—Manchester Campus, 300 (rather than 3000) Commercial Street in Manchester, New Hampshire.”

Dated: November 2, 2000.
Walter C. Waidelich,
Assistant Division Administrator, Concord, New Hampshire.

[FR Doc. 00-28817 Filed 11-8-00; 8:45 am]

BILLING CODE 4910-22-M